DEPARTMENT OF COMMERCE

National Oceanic and Atmospheric Administration

[I.D. 121802A]

New England Fishery Management Council; Public Meetings

AGENCY: National Marine Fisheries Service (NMFS), National Oceanic and Atmospheric Administration (NOAA), Commerce.

ACTION: Notice of public meetings.

SUMMARY: The New England Fishery Management Council (Council) is scheduling a public meeting of its Scallop Advisory Panel, Oversight Committee and Habitat Oversight Committee in January, 2003 to consider actions affecting New England fisheries in the exclusive economic zone (EEZ). Recommendations from these groups will be brought to the full Council for formal consideration and action, if appropriate.

DATES: The meetings will be held between January 7 and January 10, 2003. See SUPPLEMENTARY INFORMATION for specific dates and times.

ADDRESSES: The meetings will be held in Warwick, RI and Plymouth, MA. See SUPPLEMENTARY INFORMATION for specific locations.

Council address: New England Fishery Management Council, 50 Water Street, Mill 2, Newburyport, MA 01950.

FOR FURTHER INFORMATION CONTACT: Paul J. Howard, Executive Director, New England Fishery Management Council; (978) 465-0492.

SUPPLEMENTARY INFORMATION:

Meeting Dates and Agendas

Tuesday, January 7, 2003, 9:30 a.m.—Habitat Oversight Committee Meeting.

Location: Radisson Hotel Plymouth Harbor, 180 Water Street, Plymouth, MA 02360; telephone: (508) 747-4900.

The Committee will review the analysis for the Essential Fish Habitat Sections of the Draft Supplimental Environmental Impact Statement (DSEIS) for Amendment 10. They will also select preferred alternatives for Amendment 10 to be recommended to the full Council.

Wednesday, January 8, 2003, 9:30 a.m.—Scallop Advisory Panel Meeting.

Location: Radisson Airport Hotel, 2081 Post Road, Warwick, RI 02886; telephone: (401) 739-3000.

The Scallop Advisory Panel will review the Draft Amendment 10 alternatives and analysis of impacts, providing advice to the Oversight Committee for measures to include in one or more preferred alternatives.

January 9, 2003, 9:30 a.m. and January 10, 2003, 8:30 a.m.—Scallop Oversight Committee Meeting.

Location: Radisson Airport Hotel, 2081 Post Road, Warwick, RI 02886; telephone: (401) 739-3000.

Based on the new and existing analyses in the DSEIS, Plan Development Team (PDT) recommendations, and Panel advice; the Oversight Committee will develop recommendations for one or more preferred alternatives for Draft Amendment 10 to the Atlantic Sea Scallop Fishery Management Plan. The committee will also develop initial/default rotation management recommendations for the 2004-07 scallop fishing years based on the 2002 survey data and updated projections. Other scallop management issues may also be discussed, if needed.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

These meetings are physically accessible to people with disabilities. Requests for sign language interpretation or other auxiliary aids should be directed to Paul J. Howard (see ADDRESSES) at least 5 days prior to the meeting dates.

Dated: December 18, 2002.
Richard W. Surdi,
Acting Director, Office of Sustainable Fisheries, National Marine Fisheries Service.

[FR Doc. 02-32303 Filed 12-23-02; 8:45 am]

BILLING CODE 3510-22-S